LEGAL SERVICES CORPORATION

Sunshine Act Meeting

DATE AND TIME: The Legal Services Corporation's Board of Directors and its six committees will meet July 16-18, 2015. On Thursday, July 16, the first meeting will commence at 12:45 p.m., Central Daylight Time (CDT), with the meeting thereafter commencing promptly upon adjournment of the immediately preceding meeting. On Friday, July 17, the first meeting will commence at 3:00 p.m., CDT, with the next meeting commencing at 4:15 p.m., CDT, and the meeting thereafter commencing promptly upon adjournment of the immediately preceding meeting. On Saturday, July 18, the first meeting will commence at 8:30 a.m., CDT, with the next meeting commencing at 9:00 a.m., CDT, and it will be followed by the closed session meeting of the Board of Directors which will commence promptly upon adjournment of the prior meeting.

LOCATION: Radisson Blu Norway Room, 35 South Seventh Street, Minneapolis, Minnesota 55402.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348.

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule
| Time *
Thursday, July 16, 2015
1. Operations & Regulations Committee | 12:45 p.m.
2. Audit Committee
3. Finance Committee
4. Governance & Performance Review Committee
Friday, July 17, 2015
1. Delivery of Legal Services Committee | 3:00 p.m.
2. Institutional Advancement Committee
Saturday, July 18, 2015
1. Institutional Advancement Committee Communication Subcommittee | 8:30 a.m.
2. Board of Directors

STATUS OF MEETING: Open, except as noted below.

Board of Directors—Open, except that, upon a vote of the Board of Directors, a portion of the meeting may be closed to the public to hear briefings by management and LSC's Inspector General, and to consider and act on the General Counsel's report on potential and pending litigation involving LSC, and on a list of prospective funders.**

* Please note that all times in this notice are in the Central Daylight Time.

** Any portion of the closed session consisting solely of briefings does not fall within the Sunshine Act's definition of the term "meeting" and, therefore, the requirements of the Sunshine Act do not apply to such portion of the closed session. 5 U.S.C. 552b (a)(2) and (b). See also 45 CFR 1622.2 & 1622.3.

Institutional Advancement Committee—Open, except that, upon a vote of the Board of Directors, the meeting may be closed to the public to consider and act on recommendation of new prospective donors and to receive a briefing on the development report.**

Audit Committee—Open, except that the meeting may be closed to the public to hear a briefing on the Office of Compliance and Enforcement's active enforcement matters.**

Governance and Performance Review Committee—Open, except that the meeting may be closed to the public to consider and act on recommendation of new prospective funders, and to receive a briefing on the development report.**

A verbatim written transcript will be made of the closed session of the Board, Institutional Advancement Committee, Audit Committee, and Governance and Performance Review Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

July 16, 2015

OPERATIONS & REGULATIONS COMMITTEE

1. Approval of agenda

2. Approval of minutes of the Committee's meeting of April 12, 2015

3. Update on changes to 45 CFR part 1610—Transfers of LSC Funds and 45 CFR part 1627—Subgrants and Membership Fees or Dues

• Ron Flagg, General Counsel

• Stefanie Davis, Assistant General Counsel

• Mark Freedman, Senior Assistant General Counsel

4. Consider and act on Final Rule for 45 CFR part 1628—Recipient Fund Balances

• Ron Flagg, General Counsel

• Stefanie Davis, Assistant General Counsel

5. Consider and act on Proposed Rulemaking Agenda 2015—2016

• Ron Flagg, General Counsel

• Stefanie Davis, Assistant General Counsel

• Mark Freedman, Senior Assistant General Counsel

• Tom Hester, Associate Counsel to the Inspector General

6. Consider and act on updating the LSC Rulemaking Protocol

• Ron Flagg, Vice President & General Counsel

• Stefanie Davis, Assistant General Counsel

• Mark Freedman, Senior Assistant General Counsel

7. Consider and act on initiating rulemaking for 45 CFR part 1630—Cost Standards and the Property Acquisition and Management Manual

• Ron Flagg, General Counsel

• Stefanie Davis, Assistant General Counsel

• Mark Freedman, Senior Assistant General Counsel

8. Report on 2015 Grant Assurances

• Jim Sandman, President

• Public Comment

9. Consider and act on comments on population data for grants to serve agricultural workers

• Ron Flagg, General Counsel

• Bristow Hardin, Program Analyst

• Mark Freedman, Senior Assistant General Counsel

• Public Comment

10. Other public comment

11. Consider and act on other business

12. Consider and act on adjournment of meeting

July 16, 2015

AUDIT COMMITTEE

1. Approval of agenda

2. Approval of minutes of the Committee's meeting on April 13, 2015

3. Review of the Audit Committee Charter

4. Briefing by Office of Inspector General

• Jeffrey Schanz, Inspector General

5. Management update regarding risk management

• Ron Flagg, Vice President of Legal Affairs

6. Briefing about follow-up by Office of Compliance and Enforcement on referrals by the Office of Inspector General regarding audit reports and annual Independent Public audits of grantees

• Lora Rath, Director of Compliance and Enforcement

• John Seeba, Assistant Inspector General for Audits

7. Public comment

8. Consider and act on other business

Closed Session

9. Approval of minutes of the Committee's meeting on April 13, 2015

10. Briefing by Office of Compliance and Enforcement on active enforcement matter(s) and follow-up on open investigation referrals from the Office of Inspector General

• Lora Rath, Director of Compliance and Enforcement

11. Consider and act on adjournment of meeting

July 16, 2015

FINANCE COMMITTEE

1. Approval of agenda

2. Approval of minutes of the Committee's telephonic meeting on June 15, 2015

3. Presentation of the LSC's Financial Report for the first eight months of FY 2015

• David Richardson, Treasurer/Comptroller

4. Review of Internal Budgetary Adjustments for the FY 2015 Consolidated Operating Budget

• David Richardson, Treasurer/Comptroller

5. Report on the FY 2016 appropriations process

• Carol Bergman, Director of Government Relations & Public Affairs

6. Consider and act Temporary Operating Authority for FY 2016, Resolution 2015-XXX

• David Richardson, Treasurer/Comptroller

7. Consider and act on FY 2017 Budget Request, Resolution 2015-XXX

• Jim Sandman, President

• Carol Bergman, Director of Government Relations & Public affairs

• Jeffrey Schanz, Inspector General

8. Public comment

9. Consider and act on other business

10. Consider and act on adjournment of meeting

July 16, 2015

GOVERNANCE AND PERFORMANCE REVIEW COMMITTEE

1. Approval of agenda

2. Approval of minutes of the Committee's meeting on April 13, 2015

3. Report on GAO inquiry

• Carol Bergman, Director of Government Relations & Public Affairs

4. Report on foundation grants and LSC's research agenda

• Jim Sandman, President

5. Public comment

6. Consider and act on other business

7. Consider and act on adjournment of meeting

Closed Session

8. Approval of minutes of the Committee's meeting on April 13, 2015

9. Development Report

10. Consider and act on prospective funders

• Jim Sandman, President

11. Consider and act on motion to adjourn meeting

July 17, 2015

DELIVERY OF LEGAL SERVICES COMMITTEE

1. Approval of Agenda

2. Approval of minutes of the Committee's meeting on April 13, 2015

3. Panel presentation and Committee discussion on Providing legal services to Native American communities

• Chris Allery, Supervising Attorney, Anishinabe Legal Services

• Dorothy Alther, Executive Director, California Indian Legal Services

• Ed Reinhardt, Senior Attorney, Legal Services of North Dakota

• Sylvia Struss, Administrative Director, DNA—People's Legal Services

• Colline Wahkinney-Keely, Executive Director, Oklahoma Indian Legal Services

• Janet LaBella, Director, Office of Program Performance, Legal Services Corporation, (Moderator)

4. Public comment

5. Consider and act on other business

6. Consider and act on motion to adjourn the meeting

July 17, 2015

INSTITUTIONAL ADVANCEMENT COMMITTEE

Open Session

1. Approval of agenda

2. Approval of minutes of the Committee's meeting of April 14, 2015

3. Development activities update

4. Discussion of Protocol for the Allocation of Private Funds

5. Public comment

6. Consider and act on other business

7. Adjourn open session

Closed Session

1. Consider and act on agenda

2. Approval of minutes of the Committee's Closed Session meeting of April 14, 2015

3. Development report

4. Consider and act on prospective donors

5. Consider and act on adjournment of meeting

July 18, 2015

COMMUNICATIONS SUBCOMMITTEE OF THE INSTITUTIONAL ADVANCEMENT COMMITTEE

Open Session

1. Approval of agenda

2. LSC communications updates

3. Public comment

4. Consider and act on other business

July 18, 2015

BOARD OF DIRECTORS

Open Session

1. Pledge of Allegiance

2. Approval of agenda

3. Approval of minutes of the Board's Open Session meeting of April 15, 2015

4. Approval of minutes of the Board's Open Session telephonic meeting of May 22, 2015

5. Chairman's Report

6. Members' Report

7. President's Report

8. Inspector General's Report

9. Consider and act on the report of the Finance Committee

10. Consider and act on the report of the Audit Committee

11. Consider and act on the report of the Operations and Regulations Committee

12. Consider and act on the report of the Governance and Performance Review Committee

13. Consider and act on the report of the Institutional Advancement Committee

14. Consider and act on the report of the Delivery of Legal Services Committee

15. Consider and act on process for updating the 2012—2016 LSC Strategic Plan

16. Report on implementation of the Pro Bono Task Force Report and the Pro Bono Innovation Fund

17. Public comment

18. Consider and act on other business

19. Consider and act on whether to authorize an executive session of the Board to address items listed below, under Closed Session

Closed Session

20. Approval of minutes of the Board's Closed Session of April 14, 2015

21. Briefing by Management

22. Briefing by Inspector General

23. Consider and act on General Counsel's report on potential and pending litigation involving LSC

24. Consider and act on list of prospective funders

25. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 8, 2015.
Katherine Ward,
Executive Assistant to the Vice President for Legal Affairs, General Counsel & Corporate Secretary.

[FR Doc. 2015-17177 Filed 7-9-15; 11:15 am]

BILLING CODE 7050-01-P